DEPARTMENT OF ENERGY

Federal Energy Regulatory Commission

Combined Notice of Filings #1

Take notice that the Commission received the following electric rate filings:

Docket Numbers: ER12-543-003.

Applicants: Clean Choice Energy, Inc.

Description: Notification of Change in Status of Clean Choice Energy, Inc.

Filed Date: 10/12/17.

Accession Number: 20171012-5162.

Comments Due: 5 p.m. ET 11/2/17.

Docket Numbers: ER18-68-000.

Applicants: Natural Gas Exchange Inc.

Description: Notice of Cancellation of Market-Based Rate Tariff of Natural Gas Exchange Inc.

Filed Date: 10/12/17.

Accession Number: 20171012-5107.

Comments Due: 5 p.m. ET 11/2/17.

Docket Numbers: ER18-69-000.

Applicants: NorthWestern Corporation.

Description: § 205(d) Rate Filing: NTTG Attachment K Revisions (Interconnection-Wide) to be effective 12/12/2017.

Filed Date: 10/12/17.

Accession Number: 20171012-5136.

Comments Due: 5 p.m. ET 11/2/17.

Docket Numbers: ER18-70-000.

Applicants: Citizens Sunrise Transmission LLC.

Description: § 205(d) Rate Filing: Annual TRBAA Filing October 2017 to be effective 1/1/2018.

Filed Date: 10/12/17.

Accession Number: 20171012-5138.

Comments Due: 5 p.m. ET 11/2/17.

Docket Numbers: ER18-71-000.

Applicants: PJM Interconnection, L.L.C.

Description: § 205(d) Rate Filing: Ministerial Clean Up: Overlapping Dates, Italicized Language and Corrections to be effective 6/27/2016.

Filed Date: 10/12/17.

Accession Number: 20171012-5143.

Comments Due: 5 p.m. ET 11/2/17.

Docket Numbers: ER18-72-000.

Applicants: Deseret Generation & Transmission Co-operative, Inc.

Description: § 205(d) Rate Filing: OATT Attachment K Amend to be effective 12/12/2017.

Filed Date: 10/12/17.

Accession Number: 20171012-5152.

Comments Due: 5 p.m. ET 11/2/17.

Take notice that the Commission received the following qualifying facility filings:

Docket Numbers: QF18-33-000.

Applicants: UE-00301MD, LLC.

Description: Form 556 of UE-00301MD, LLC.

Filed Date: 10/6/17.

Accession Number: 20171006-5082.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 13, 2017.
Nathaniel J. Davis, Sr.,
Deputy Secretary.

[FR Doc. 2017-22654 Filed 10-18-17; 8:45 am]

BILLING CODE 6717-01-P